DEPARTMENT OF DEFENSE

Office of the Secretary

Defense Science Board

AGENCY: Department of Defense.

ACTION: Notice of Advisory Committee meeting date change.

SUMMARY: On Wednesday, March 13, 2002 (67 FR 11293) the Department of Defense announced closed meetings of the Defense Science Board Task Force on Discriminant Use of Force. The meeting scheduled for October 21-22, 2002, has been rescheduled to December 3-4, 2002. The meeting will be held at SAIC, 4001 N. Fairfax Drive, Arlington, VA.

Dated: October 3, 2002.
Patricia L. Toppings,
Alternate OSD Federal Register Liaison Officer, Department of Defense.

[FR Doc. 02-25940 Filed 10-10-02; 8:45 am]

BILLING CODE 5001-08-M